DEPARTMENT OF THE INTERIOR

Bureau of Land Management

[MT010-1060-JJ]

[WY930-1060-JJ]

Notice of Public Hearing on the Use of Helicopters and Motor Vehicles To Gather Wild Horses From Public Lands in Montana and Wyoming.

AGENCY: Bureau of Land Management, Interior.

ACTION: Notice of public hearing date inviting comment on the use of helicopters and motor vehicles to gather and remove excess wild horses from public lands administered by the Bureau of Land Management in Montana and Wyoming.

SUMMARY: The Bureau of Land Management (BLM) will conduct a public hearing on the use of helicopters and motor vehicles to gather wild horses from BLM-administered lands in the Pryor Mountain Wild Horse Range, Montana. The hearing will be held at the Bighorn Canyon National Recreation Area Visitor Center, in Lovell, Wyoming, on Thursday, June 26, 2003, from 7 p.m. to 9 p.m. The Montana Billings Field Office has scheduled wild horse gathering operations to begin no earlier than July 7, 2003, and may continue through September 30, 2003. Concurrently, the Wyoming State Office will conduct a public hearing on the use of helicopters and motor vehicles to gather wild horses from all the BLM Wyoming's Herd Management Areas (HMAs).

The Wyoming BLM proposes to conduct gather operations using helicopters and motorized vehicles during the period starting July 15, 2003, through April 15, 2004. The 2003 schedule of Wyoming gathers has not been set, but will be scheduled based on priority needs. The Wyoming BLM will notify the public in advance of the gathering dates for its HMAs as they are determined.

The Wild, Free Roaming Horse and Burro Act (Act), as amended (Pub. L. 92-195) provides for the removal of excess wild horses from public land; and for the use of aircraft and motor vehicles by the BLM in all phases of the administration of the Act. The Code of Federal Regulations at 43 CFR 4740.1 requires the BLM authorized officer to conduct a public hearing in the area where such use of helicopters and motorized vehicles is to be made. The June 26, 2003, meeting in Lovell, Wyoming, will serve as the BLM's required hearing addressing all HMAs in the entire State.

ADDRESSES: Bureau of Land Management, Billings Field Office, Linda Coates-Markle, PO Box 36800, 5001 Southgate Drive, Billings, Montana 59107-6800 and Bureau of Land Management, Wyoming State Office, Alan Shepherd, PO Box 1828, 5353 Yellowstone Road, Cheyenne, Wyoming 82003-1828.

FOR FURTHER INFORMATION CONTACT: Linda Coates-Markle, Montana BLM State Wild Horse and Burro Specialist, telephone (406) 896-5013. Alan Shepherd, Wyoming BLM State Wild Horse and Burro Program Lead, telephone (307) 775-6097.

SUPPLEMENTARY INFORMATION: The Montana BLM completed the Pryor Mountain Wild Horse Range Environmental Assessment (EA) and Wild Horse Gather and Removal Plan on April 16, 2003. The Prior Mountain Wild Horse Range EA and associated Plan are available for public review. Copies may be obtained from the above address or by accessing the BLM-MT Web site at http://www.mt.blm.gov/bifo/whb/doc2.html.

The Wyoming BLM has completed the following EAs and Wild Horse Gather and Removal Plans:

• EA for Wild Horse Gathering Inside and Outside Wild Horse Herd Management Areas and approved in the Decision Record and Finding of No Significant Impact for Wild Horse Gathering Inside and Outside Wild Horse Herd Management Areas, July 14, 1999, (WY-040-EA9-041). Also in the EA for Late Winter Gathering of Wild Horses in the Rock Springs Field Office Area and approved in the Decision Record and Finding of No Significant Impact for the Late Winter Gathering of Wild Horses in the Rock Springs Field Office Area. February 16, 2001, (WY-040-01-EA-019), Rock Springs Field Office, Rock Springs, Wyoming; (307) 352-0256.

• Maintaining Viable Populations of Wild Horses on Healthy Rangelands in the Adobe Town HMA in the Rawlins Field Office Jurisdiction (EA No. WY-030-02-EA-007). January 2002, Rawlins Field Office, Rawlins, Wyoming; (307) 328-4200.

Copies of these EAs are available by request from the Field Office that prepared the EA and plan or by accessing the BLM-WY Web site at http://www.wy.blm.gov/wildhorses/docs.html.

Dated: May 7, 2003.
Michael Madrid,
Acting State Director.

Dated: May 8, 2003.
Eddie Bateson,
Assistant Field Manager.

[FR Doc. 03-11976 Filed 5-13-03; 8:45 am]

BILLING CODE 4310-DN-P; 4310-22-P